DEPARTMENT OF TRANSPORTATION

Office of the Secretary

49 CFR Part 71

[Docket No. OST-2003-15945]

RIN 2105-AD32

Establishment of the Chamorro Standard Time Zone

AGENCY: Office of the Secretary (OST), (DOT).

ACTION: Final rule.

SUMMARY: By statute, Congress established the Chamorro standard time zone. Geographically this time zone includes Guam and the Commonwealth of the Northern Mariana Islands. This final rule revises the Department of Transportation's regulations to reference the new time zone.

DATES: This rule is effective on August 19, 2003.

FOR FURTHER INFORMATION CONTACT: Joanne Petrie, Office of the Assistant General Counsel for Regulation and Enforcement, U.S. Department of Transportation, Room 10424, 400 Seventh Street, SW., Washington, DC 20590, (202) 366-9315.

SUPPLEMENTARY INFORMATION:

Electronic Access

You can view and download this document by going to the web page of the Department's Docket Management System (http://dms.dot.gov/). On that page, click on “search.” On the next page, type in the last five digits of the docket number shown on the first page of this document. Then click on “search.” An electronic copy of this document also may be downloaded by using a computer, modem, and suitable communications software from the Government Printing Office's Electronic Bulletin Board Service at (202) 512-1661. Internet users may reach the Office of Federal Register's home page at http://www.nara.gov/fedreg and the Government Printing Office's database at http://www.access.gpo.gov/nara/index.html.

Background

On January 24, 2000, Congress passed the Guam and the Northern Mariana Islands Standard Time Zone Act [Pub. L. 106-564, 114 Stat. 2811], which amended title 15 of the United States Code. The Act established the Chamorro standard time zone for Guam and the Commonwealth of the Northern Mariana Islands. The term Chamorro refers to the culture and people of that area.

This final rule is ministerial in nature and is meant to incorporate the statutory change into the Department's regulations for reader convenience. As such, notice and comment are unnecessary and contrary to the public interest. Further, because this rule does not impose substantive requirements on the public, the Department finds that there is good cause to make this rule effective on the date of publication in the Federal Register because it is merely referencing a statutory change that is already in effect.

Regulatory Analysis and Notices

A. Executive Order 12866 and DOT Regulatory Policies and Procedures

This rule is not a “significant regulatory action” under section 3(f) of Executive Order 12866 and was not reviewed by the Office of Management and Budget. Similarly, the rule is not significant under the criteria of the Regulatory Policies and Procedures of the Department of Transportation (44 FR 11034). There are no costs associated with this rule.

B. Federalism

This action has been analyzed in accordance with the principles and criteria contained in Executive Order 13132, dated August 4, 1999. This final rule does not have a substantial direct effect on States.

C. Indian Tribal Governments

This final rule has been analyzed in accordance with the principles and criteria contained in Executive Order 13084 (“Consultation with Indian Tribal Governments”). Because this final rule does not significantly or uniquely affect the communities of the Indian tribal governments and does not impose substantial direct compliance costs, the funding and consultation requirements of Executive Order 13084 do not apply.

D. Regulatory Flexibility Act

The Regulatory Flexibility Act (5 U.S.C. 601 et seq.) requires an agency to review regulations to assess their impact on small entities unless the agency determines that a rule is not expected to have a significant impact on a substantial number of small entities. The Department of Transportation hereby certifies that this final rule will not have a significant economic impact on a substantial number of small entities.

E. Paperwork Reduction Act

This rule contains no information collection requirements under the Paperwork Reduction Act of 1995 (44 U.S.C. 3501-3520).

F. Unfunded Mandates Reform Act

The Department has determined that the requirements of Title II of the Unfunded Mandates Reform Act of 1995 (2 U.S.C. 1531-1538) do not apply to this rulemaking.

G. Environment

We considered the environmental impact of this final rule and have determined that this rule has no environmental implications.

Final Rule

List of Subjects in 49 CFR Part 71

Time zones.

For the reasons discussed in the preamble, the Department of Transportation amends 49 CFR part 71 as follows:

PART 71—STANDARD TIME ZONE BOUNDARIES

1. The authority citation for part 71 is revised to read as follows:

Authority: Secs. 1-4, 40 Stat. 450, as amended; sec. 1, 41 Stat. 1446, as amended; secs. 2-7, 80 Stat. 107, as amended; 100 Stat. 764; Act of Mar. 19, 1918, as amended by the Uniform Time Act of 1966 and Pub. L. 97-449, 15 U.S.C. 260-267; Pub. L. 99-359; Pub. L. 106-564, 15 U.S.C. 263, 114 Stat. 2811; 49 CFR 1.59(a), unless otherwise noted.

2. Add § 71.14 to read as follows:

§ 71.14 Chamorro Zone.

The ninth zone, the Chamorro standard time zone, includes the Island of Guam and the Commonwealth of the Northern Mariana Islands.

Issued in Washington, DC on June 24, 2003.
Norman Y. Mineta,
Secretary of Transportation.

[FR Doc. 03-21222 Filed 8-18-03; 8:45 am]

BILLING CODE 4910-62-P